SMALL BUSINESS ADMINISTRATION

[Declaration of Disaster #P011]

State of Nebraska

As a result of the President's major disaster declaration for Public Assistance on July 21, 2003, the U.S. Small Business Administration is activating its disaster loan program only for private non-profit organizations that provide essential services of a governmental nature. I find that Cedar, Douglas, Greeley, Howard, Jefferson, McPherson, Perkins, Platte, Stanton, and Thayer Counties in the State of Nebraska constitute a disaster area due to damages caused by severe storms and tornadoes occurring from June 9, 2003 and continuing through July 14, 2003. Applications for loans for physical damage as a result of this disaster may be filed until the close of business on September 19, 2003, at the address listed below or other locally announced locations: Small Business Administration, Disaster Area 3 Office, 4400 Amon Carter Blvd., Suite 102, Ft. Worth, TX 76155.

The interest rates are:

For physical damage: | Percent
Non-profit Organizations Without Credit Available Elsewhere | 2.953
Non-profit Organizations With Credit Available Elsewhere | 5.500

The number assigned to this disaster for physical damage is P01111.

(Catalog of Federal Domestic Assistance Program Nos. 59008).
Dated: July 24, 2003.
Herbert L. Mitchell,
Associate Administrator for Disaster Assistance.

[FR Doc. 03-19465 Filed 7-30-03; 8:45 am]

BILLING CODE 8025-01-P